DEPARTMENT OF ENERGY

Environmental Management Site-Specific Advisory Board, Oak Ridge

AGENCY: Office of Environmental Management, Department of Energy.

ACTION: Notice of open meeting.

SUMMARY: This notice announces an in-person/virtual hybrid open meeting of the Environmental Management Site-Specific Advisory Board (EM SSAB), Oak Ridge. The Federal Advisory Committee Act requires that public notice of this meeting be announced in the Federal Register.

DATES: Wednesday, February 8, 2023; 6 p.m.-8 p.m. ET.

ADDRESSES: This meeting will be open to the public virtually via Zoom only. To attend virtually, please send an email to: orssab@orem.doe.gov no later than 5:00 p.m. ET on Wednesday, February 1, 2023.

Board members, Department of Energy (DOE) representatives, agency liaisons, and Board support staff will participate in-person, following COVID-19 precautionary measures, at:

DOE Information Center, Office of Science and Technical Information, 1 Science.gov Way, Oak Ridge, Tennessee 37831.

Attendees should check the website listed below for any meeting format changes due to COVID-19 protocols.

FOR FURTHER INFORMATION CONTACT: Melyssa P. Noe, Alternate Deputy Designated Federal Officer, U.S. Department of Energy, Oak Ridge Office of Environmental Management (OREM), P.O. Box 2001, EM-942, Oak Ridge, TN 37831; Phone (865) 241-3315; or E-Mail: Melyssa.Noe@orem.doe.gov. Or visit the website at www.energy.gov/orssab.

SUPPLEMENTARY INFORMATION:

Purpose of the Board: The purpose of the Board is to make recommendations to DOE-EM and site management in the areas of environmental restoration, waste management, and related activities.

Tentative Agenda:

• Comments from the Alternate Deputy Designated Federal Officer (DDFO)

• Comments from DOE, Tennessee Department of Environment and Conservation, and Environmental Protection Agency Liaisons

• Presentation

• Public Comment Period

• Motions/Approval of October 12, 2022 and November 9, 2022 Meeting Minutes

• Status of Outstanding Recommendations

• Alternate DDFO Report

• Subcommittee Reports

Public Participation: The in-person/virtual hybrid meeting is open to the public virtually via Zoom only. Written statements may be filed with the Board via email either before or after the meeting. Public comments received by no later than 5 p.m. ET on Wednesday, February 1, 2023, will be read aloud during the meeting. Comments will be accepted after the meeting, by no later than 5 p.m. ET on Monday, February 13, 2023. Please submit comments to orssab@orem.doe.gov. The Deputy Designated Federal Officer is empowered to conduct the meeting in a fashion that will facilitate the orderly conduct of business. Individuals wishing to submit written public comments should email them as directed above.

Minutes: Minutes will be available by emailing or calling Melyssa P. Noe at the email address and telephone number listed above. Minutes will also be available at the following website: https://www.energy.gov/orem/listings/oak-ridge-site-specific-advisory-board-meetings.

Signed in Washington, DC, on January 6, 2023.
LaTanya Butler,
Deputy Committee Management Officer.

[FR Doc. 2023-00362 Filed 1-10-23; 8:45 am]

BILLING CODE 6450-01-P